DEPARTMENT OF TRANSPORTATION

Federal Aviation Administration

14 CFR Part 39

[Docket No. FAA-2010-0562; Directorate Identifier 2009-NE-29-AD]

RIN 2120-AA64

Airworthiness Directives; Rolls-Royce plc (RR) RB211-524 Series and RB211 Trent 500, 700, and 800 Series Turbofan Engines

AGENCY: Federal Aviation Administration (FAA), DOT.

ACTION: Notice of proposed rulemaking (NPRM).

SUMMARY: We propose to adopt a new airworthiness directive (AD) for the products listed above. This proposed AD results from mandatory continuing airworthiness information (MCAI) issued by an aviation authority of another country to identify and correct an unsafe condition on an aviation product. The MCAI describes the unsafe condition as:

During manufacture of a number of HP Compressor Stage 1 and 2 discs with axial dovetail slots, anomalies at the disc post corners have been found. Fatigue crack initiation and subsequent crack propagation at the disc post may result in release of two blades and the disc post. This may potentially be beyond the containment capabilities of the engine casings. Thus, these anomalies present at the disc posts constitute a potentially unsafe condition.

We are proposing this AD to detect cracks in the high-pressure compressor (HPC) Stage 1 and 2 disc posts, which could result in failure of the disc post and HPC blades, release of uncontained engine debris, and damage to the airplane.

DATES: We must receive comments on this proposed AD by July 30, 2010.

ADDRESSES: You may send comments by any of the following methods:

• Federal eRulemaking Portal: Go to http://www.regulations.gov and follow the instructions for sending your comments electronically.

• Mail: Docket Management Facility, U.S. Department of Transportation, 1200 New Jersey Avenue, SE., West Building Ground Floor, Room W12-140, Washington, DC 20590-0001.

• Hand Delivery: Deliver to Mail address above between 9 a.m. and 5 p.m., Monday through Friday, except Federal holidays.

• Fax: (202) 493-2251.

Contact Rolls-Royce plc, P.O. Box 31, Derby, DE24 8BJ, United Kingdom; phone: 011 44 1332 242424, fax: 011 44 1332 249936; e-mail: tech.help@rolls-royce.com, for the service information identified in this proposed AD.

Examining the AD Docket

You may examine the AD docket on the Internet at http://www.regulations.gov; or in person at the Docket Operations office between 9 a.m. and 5 p.m., Monday through Friday, except Federal holidays. The AD docket contains this proposed AD, the regulatory evaluation, any comments received, and other information. The street address for the Docket Operations office (telephone (800) 647-5527) is the same as the Mail address provided in the ADDRESSES section. Comments will be available in the AD docket shortly after receipt.

FOR FURTHER INFORMATION CONTACT: James Lawrence, Aerospace Engineer, Engine Certification Office, FAA, Engine and Propeller Directorate, 12 New England Executive Park, Burlington, MA 01803; e-mail: james.lawrence@faa.gov; telephone (781) 238-7176; fax (781) 238-7199.

SUPPLEMENTARY INFORMATION:

Comments Invited

We invite you to send any written relevant data, views, or arguments about this proposed AD. Send your comments to an address listed under the ADDRESSES section. Include “Docket No. FAA-2010-0562; Directorate Identifier 2009-NE-29-AD” at the beginning of your comments. We specifically invite comments on the overall regulatory, economic, environmental, and energy aspects of this proposed AD. We will consider all comments received by the closing date and may amend this proposed AD based on those comments.

We will post all comments we receive, without change, to http://www.regulations.gov, including any personal information you provide. We will also post a report summarizing each substantive verbal contact with FAA personnel concerning this proposed AD. Using the search function of the Web site, anyone can find and read the comments in any of our dockets, including, if provided, the name of the individual who sent the comment (or signed the comment on behalf of an association, business, labor union, etc.). You may review the DOT's complete Privacy Act Statement in the Federal Register published on April 11, 2000 (65 FR 19477-78).

Discussion

The European Aviation Safety Agency (EASA), which is the Technical Agent for the Member States of the European Community, has issued EASA Airworthiness Directive 2009-0073R1, dated April 8, 2009, (referred to after this as “the MCAI”) to correct an unsafe condition for the specified products. The MCAI states:

During manufacture of a number of HP Compressor Stage 1 and 2 discs with axial dovetail slots, anomalies at the disc post corners have been found. Fatigue crack initiation and subsequent crack propagation at the disc post may result in release of two blades and the disc post. This may potentially be beyond the containment capabilities of the engine casings. Thus, these anomalies present at the disc posts constitute a potentially unsafe condition.

For the reasons described above, this AD requires repetitive inspections of the axial dovetail slots and follow-on corrective action, depending on findings.

You may obtain further information by examining the MCAI in the AD docket.

Relevant Service Information

Rolls-Royce plc has issued Alert Service Bulletin RB.211-72-AF964, Revision 1, dated June 6, 2008. The actions described in this service information are intended to correct the unsafe condition identified in the MCAI.

FAA's Determination and Requirements of This Proposed AD

This product has been approved by the aviation authority of the United Kingdom, and is approved for operation in the United States. Pursuant to our bilateral agreement with the United Kingdom, they have notified us of the unsafe condition described in the MCAI and service information referenced above. We are proposing this AD because we evaluated all information provided by EASA, and determined the unsafe condition exists and is likely to exist or develop on other products of the same type design.

Costs of Compliance

Based on the service information, we estimate that this proposed AD would affect about 371 products of U.S. registry. We also estimate that it would take about 20 work-hours per product to comply with this proposed AD. The average labor rate is $85 per work-hour. No parts would be required per product. Based on these figures, we estimate the cost of the proposed AD on U.S. operators to be $630,700.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD and placed it in the AD docket.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

Rolls-Royce plc (RR): Docket No. FAA-2010-0562; Directorate Identifier 2009-NE-29-AD.

Comments Due Date

(a) We must receive comments by July 30, 2010.

Affected Airworthiness Directives (ADs)

(b) None.

Applicability

(c) This AD applies to RR model RB211-524G2-T-19, -524G3-T-19, -524H-T-36, and -524H2-T-19; and RB211 Trent 553-61, 553A2-61, 556-61, 556A2-61, 556B-61 556B2-61, 560-61, 560A2-61; RB211 Trent 768-60, 772-60, 772B-60; and RB211 Trent 875-17, 877-17, 884-17, 884B-17, 892-17, 892B-17, and 895-17 turbofan engines that have a high-pressure (HP) compressor stage 1 to 4 rotor disc with a part number (P/N) listed in Table 1 of this AD. These engines are installed on, but not limited to, Boeing 747, 767, and 777 series airplanes and Airbus A330 and A340 series airplanes.

Table 1—Affected HP Compressor Stage 1 to 4 Rotor Disc P/Ns by Engine Model
Engine model | HP compressor stage 1 to 4 rotor disc P/N
(1) RB211-524G2-T-19, -524G3-T-19, -524H-T-36, and -524H2-T-19 | FK20195, FK25502, or FW23711.
(2) RB211 Trent 553-61, 553A2-61, 556-61, 556A2-61, 556B-61, 556B2-61, 560-61, and 560A2-61 | FK30524.
(3) RB211 Trent 768-60, 772-60, and 772B-60. | FK22745, FK24031, FK26185, FK23313, FK25502, FK32129, FW20195, FW20196, FW20197, FW20638, or FW23711.
(4) RB211 Trent 875-17, 877-17, 884-17, 884B-17, 892-17, 892B-17, and 895-17 | FK24009, FK26167, FK32580, FW11590, or FW61622.

Reason

(d) This AD results from reports that:

“During manufacture of a number of HP Compressor Stage 1 and 2 discs with axial dovetail slots, anomalies at the disc post corners have been found. Fatigue crack initiation and subsequent crack propagation at the disc post may result in release of two blades and the disc post. This may potentially be beyond the containment capabilities of the engine casings. Thus, these anomalies present at the disc posts constitute a potentially unsafe condition.”

We are issuing this AD to detect cracks in the high-pressure compressor (HPC) Stage 1 and 2 disc posts, which could result in failure of the disc post and HPC blades, release of uncontained engine debris, and damage to the airplane.

Actions and Compliance

(e) Unless already done, do the following actions.

(1) Perform a fluorescent penetrant inspection of the HP compressor stage 1 to 4 rotor discs at the first shop visit after accumulating 1000 cycles since new on the stage 1 to 4 rotor disks or at the next shop visit after the effective date of this AD which ever occurs later. Use paragraph 3.E.(1) through 3.E.(10)(i) of the Accomplishment Instructions of Rolls-Royce Alert Service Bulletin (ASB) RB.211-72-AF964, Revision 1, dated June 6, 2008 to do the inspections.

(2) Thereafter at every engine shop visit, perform the inspection specified by paragraph (e)(1) of this AD.

Definitions

(f) For the purpose of this AD, an “engine shop visit” is the induction of an engine into the shop for maintenance involving the separation of pairs of major mating engine flanges, except that the separation of engine flanges solely for the purposes of transportation without subsequent engine maintenance does not constitute an engine shop visit.

Other FAA AD Provisions

(g) Alternative Methods of Compliance (AMOCs): The Manager, Engine Certification Office, FAA, has the authority to approve AMOCs for this AD, if requested using the procedures found in 14 CFR 39.19.

Related Information

(h) Refer to MCAI EASA Airworthiness Directive 2009-0073R1, dated April 8, 2009, and RR ASB RB.211-72-AF964, Revision 1, dated June 6, 2008, for related information. Contact Rolls-Royce plc, P.O. Box 31, Derby, DE24 8BJ, United Kingdom; phone: 011 44 1332 242424, fax: 011 44 1332 249936; e-mail: tech.help@rolls-royce.com, for a copy of this service information.

(i) Contact James Lawrence, Aerospace Engineer, Engine Certification Office, FAA, Engine and Propeller Directorate, 12 New England Executive Park, Burlington, MA 01803; e-mail: james.lawrence@faa.gov; telephone (781) 238-7176; fax (781) 238-7199, for more information about this AD.

Issued in Burlington, Massachusetts, on June 7, 2010.
Peter A. White,
Assistant Manager, Engine and Propeller Directorate, Aircraft Certification Service.

[FR Doc. 2010-14318 Filed 6-14-10; 8:45 am]

BILLING CODE 4910-13-P